DEPARTMENT OF COMMERCE

International Trade Administration

[C-357-813]

Notice of Extension of Time Limit for the Preliminary Results of Countervailing Duty Administrative Review: Honey From Argentina

AGENCY: Import Administration, International Trade Administration, U.S. Department of Commerce.

SUMMARY: The Department of Commerce is extending the time limit for the preliminary results of the administrative review of the countervailing duty order on honey from Argentina until no later than December 13, 2004. The period of review (POR) is January 1, 2003, through December 31, 2003. This extension is made pursuant to section 751(a)(1) of the Tariff Act of 1930, as amended (the Act).

EFFECTIVE DATE: August 9, 2004.

FOR FURTHER INFORMATION CONTACT: Thomas Gilgunn or Addilyn Chams-Eddine, Office of AD/CVD Enforcement VII, Import Administration, International Trade Administration, U.S. Department of Commerce, 14th Street and Constitution Avenue, NW., Washington DC 20230; telephone: (202) 482-4236 or (202) 482-0648, respectively.

Background

On December 31, 2003, the Department received a timely request from interested parties in accordance with section 751(a) of the Act and section 351.213(b) of the Department's regulations, for an administrative review of the countervailing duty order on honey from Argentina, which has a December anniversary date. On January 6, 2004, the Department initiated this administrative review covering the period January 1, 2003, through December 31, 2003. See Notice of Initiation of Antidumping and Countervailing Duty Administrative Review and Request for Revocation in Part, 69 FR 3117 (January 22, 2004).

Statutory Time Limits

Section 351.213(h)(1) of the regulations requires the Department to issue the preliminary results of review within 245 days after the last day of the anniversary month of the order or suspension agreement for which the administrative review was requested, and final results of the review within 120 days after the date on which notice of the preliminary results is published in the Federal Register. However, if the Department determines that it is not practicable to complete the review within the aforementioned specified time limits, section 351.213(h)(2) allows the Department to extend the 245-day-period to 365 days and to extend the 120-day period to 180 days. If the Department does not extend the time for issuing preliminary results, the Department may extend the time for issuing final results from 120 to 300 days.

Extension of Time Limits for Preliminary Results

Pursuant to section 751(a)(3)(A) of the Act and section 351.213(h)(2) of the regulations, the Department has determined that it is not practicable to complete the preliminary results in this administrative review by September 1, 2004. In this review, analyzing a new program may require additional information from the Government of Argentina (GOA). Furthermore, the Department intends to verify the GOA questionnaire responses. Therefore, the Department is extending the deadline for completion of the preliminary results of the administrative review of the countervailing duty order on honey from Argentina by 103 days. The preliminary results of the review will be issued not later than December 13, 2004.

This notice is published pursuant to section 751(a)(3)(A) and 777(i)(1) of the Act.

Dated: August 2, 2004.
Jeffrey A. May,
Deputy Assistant Secretary for Import Administration Group I.

[FR Doc. 04-18154 Filed 8-6-04; 8:45 am]

BILLING CODE 3510-DS-P